DEPARTMENT OF ENERGY

Federal Energy Regulatory Commission

[Docket No. IC25-4-000]

Commission Information Collection Activities (FERC-725G); Comment Request; Extension

AGENCY: Federal Energy Regulatory Commission, DOE.

ACTION: Notice of information collection and request for comments.

SUMMARY: In compliance with the requirements of the Paperwork Reduction Act of 1995, the Federal Energy Regulatory Commission (Commission or FERC) is soliciting public comment on the currently approved information collections, FERC 725G, Mandatory Reliability Standards for the Bulk-Power System: Regional Reliability Standard PRC standards; FERC-725G1, Mandatory Reliability Standards for the Bulk-Power System: Reliability Standard PRC-004-6 (Protection System Misoperation Identification and Correction), FERC-725G4, Mandatory Reliability Standards: Reliability Standard PRC-010-2 (Under Voltage Load Shedding) and 725P1, PRC-005-6 (Protection System, Automatic Reclosing, and Sudden Pressure Relaying Maintenance). There are no changes made to the reporting requirements for this information collection.

DATES: Comments on the collection of information are due March 3, 2025.

ADDRESSES: You may submit copies of your comments (identified by Docket No. IC25-4-000) by one of the following methods:

Electronic filing through https://www.ferc.gov, is preferred.

• Electronic Filing: Documents must be filed in acceptable native applications and print-to-PDF, not in scanned or picture format.

• For those unable to file electronically, comments may be filed by USPS mail or by other delivery methods:

○ Mail via U.S. Postal Service Only: Federal Energy Regulatory Commission, Secretary of the Commission, 888 First Street NE, Washington, DC 20426.

○ All other delivery services: Federal Energy Regulatory Commission, Office of the Secretary, 12225 Wilkins Avenue, Rockville, MD 20852.

Instructions: All submissions must be formatted and filed in accordance with submission guidelines at: https://www.ferc.gov. For user assistance, contact FERC Online Support by email at ferconlinesupport@ferc.gov, or by phone at (866) 208-3676 (toll-free).

Docket: Users interested in receiving automatic notification of activity in this docket or in viewing/downloading comments and issuances in this docket may do so at https://www.ferc.gov.

FOR FURTHER INFORMATION CONTACT: Kayla Williams may be reached by email at DataClearance@FERC.gov, telephone at (202) 502-6468.

SUPPLEMENTARY INFORMATION: In this information collection request, the Commission is merging the FERC-725G1 (OMB Control No. 1902-0284), FERC-725G4 (OMB Control No. 1902-0282) and FERC-725P1 (OMB Control No. 1902-0280) into the FERC-725G (OMB Control No. 1902-0252).

FERC-725G1

Title: Mandatory Reliability Standards for the Bulk-Power System: Reliability Standard PRC-004-6.

¹ 16 U.S.C.824o.

² As defined at 16 U.S.C. 824o(a)(1) and 18 CFR 39.1, the term “bulk-power system” means facilities and control systems necessary for operating an interconnected electric energy transmission network (or any portion thereof), and electric energy from generating facilities needed to maintain transmission system reliability. The term does not include facilities used in the local distribution of electric energy.

³ 16 U.S.C. 824o(e).

OMB Control No.: 1902-0284.

⁴ Using the November 20, 2024, NERC compliance registration information for entities that are Generator Owners, Transmission Owners, and Distribution Providers (in the US), the number of potential respondents is 1,861. However, not every entity will have a misoperation event during a year. Based on our previous experience with this information collection, we are estimating that approximately half of the 1,861 potential respondents annually will have a reportable misoperation, i.e., 930 (rounded) responses per year for FERC-725G1.

Type of Request: Three-year extension of the FERC-725G1 information collection requirements.

Abstract: The Commission collects information under FERC-725G1 in accordance with section 215 of the Federal Power Act (FPA) ¹ and 18 CFR parts 39 and 40. Section 215 of the FPA gives the Commission and the North American Electric Reliability Corporation (as the Commission-approved Electric Reliability Organization) to establish and enforce reliability standards for all users, owners, and operators of the bulk-power system.² Once approved, the Reliability Standards may be enforced by the Electric Reliability Organization subject to Commission oversight, or by the Commission independently.³

Reliability Standard PRC-004-6 requires transmission owners, generator owners, and distribution providers to identify and correct causes of mis-operations of certain protection systems for bulk-power system elements. It also requires retention of evidence of misoperations for a minimum of 12 calendar months.

Types of Respondents: Transmission Owners, Generator Owners, and Distribution Providers.

Frequency of Response: On occasion.

Estimate of Annual Burden: The Commission estimates 930 responses annually, and per-response burdens of 16 hours and $1,130.72.⁴ The total estimated burdens per year are 930 responses, 14,880 hours, and $1,051,570 (rounded). These burdens are itemized in the following table:

Mandatory Reliability Standards for the Bulk-Power System—Reliability Standard PRC-004-6 (FERC-725G1) Annual Estimates of Respondents' Burdens
A. Number of respondents | B. Annual number of responses per respondent | C. Total number of responses | D. Average burden & cost per response ⁵ | E. Total annual burden hours & total annual cost | F. Cost per respondent ($)
|  | (column A × column B) |  | (column C × column D) | (column E ÷ column A)
930 | 1 | 930 | 16 hrs.; $1,130.72 | 14,880 hrs.; $1,051,570 (rounded) | $1,130.72

FERC-725G4

Title: Mandatory Reliability Standards: Reliability Standard PRC-010-2 (Under Voltage Load Shedding).

OMB Control No.: 1902-0282.

Type of Request: Three-year extension of the FERC-725G4 information collection requirements.⁶

⁵ The estimated hourly cost (salary plus benefits) is a combination based on the Bureau of Labor Statistics (BLS), as of 2024, for 75% of the average of an Electrical Engineer (17-2071) $79.31/hr., 79.31 × .75 = 59.4825 ($59.48-rounded) ($59.48/hour) and 25% of an Information and Record Clerk (43-4199) $44.74/hr., $44.74 × .25% = 11.185 ($11.19 rounded) ($11.19/hour), for a total ($59.48 + $11.19 = $70.67/hour).

⁶ If OMB renews FERC-725G4, the Commission subsequently may consider requesting that OMB combine that information collection activity with FERC-725G1. Such action would be administrative only and would not indicate the discontinuation of the information collection requirements in FERC-725G4.

⁷ “Load shedding” means disconnecting consumers from the grid to prevent demand from exceeding supply, which can cause widespread grid collapse. A “UVLS Program” provides for automatic load shedding, utilizing voltage inputs, in specific circumstances and locations.

⁸ “UVLS Entities,” as defined at the NERC website at https://www.nerc.com/pa/Stand/Reliability%20Standards/PRC-010-2.pdf, are distribution providers and transmission owners responsible for the ownership, operation, or control of UVLS equipment, as required by a UVLS Program.

Abstract: The Commission collects information under FERC-725G4 in accordance with section 215 of the FPA and 18 CFR parts 39 and 40. Reliability Standard PRC-010-2 requires respondents to submit date-stamped documentation of their compliance with the relevant UVLS Program.⁷

Types of Respondents: UVLS Entities.⁸

Frequency of Response: On occasion.

Estimate of Annual Burden: The Commission estimates 25 responses annually, and per-response burdens of 48 hours and $4,176.⁹ The total estimated burdens per year are 25 responses, 1,200 hours, and $104,400. These burdens are itemized in the following table:

Mandatory Reliability Standards—Reliability Standard PRC-010-2 (Under Voltage Load Shedding) (FERC-725G4) Annual Estimates of Respondents' Burdens
A. Number of respondents | B. Annual number of responses per respondent | C. Total number of responses | D. Average burden & cost per response ¹⁰ | E. Total annual burden hours & total annual cost | F. Cost per respondent ($)
|  | (Column A × Column B) |  | (Column C × Column D) | (Column E ÷ Column A)
31 | 1 | 31 | 48 hrs.; $3,392.16 | 1,488 hrs.; $105,156.96 | $3,392.16

FERC-725P1

⁹ Using the November 20, 2024, NERC compliance registration information for only unique US entities that are Transmission Owners (325) and Distribution Providers (298), the number of potential respondents is 623, considering overlap between functions. However, not every entity has an under-voltage load shedding program. Approximately five percent of the potential respondents have such a program. Therefore, we estimate 31 (rounded) responses per year for FERC-725G4.

¹⁰ The estimated hourly cost (salary plus benefits) is a combination based on the Bureau of Labor Statistics (BLS), as of 2024, for 75% of the average of an Electrical Engineer (17-2071) $79.31/hr., 79.31 × .75 = 59.4825 ($59.48-rounded) ($59.48/hour) and 25% of an Information and Record Clerk (43-4199) $44.74/hr., $44.74 × .25% = 11.185 ($11.19 rounded) ($11.19/hour), for a total ($59.48 + $11.19 = $70.67/hour).

Title: Mandatory Reliability Standards: Reliability Standard PRC-005-6 (Protection System, Automatic Reclosing, and Sudden Pressure Relaying Maintenance).

OMB Control No.: 1902-0280.

Type of Request: Three-year extension of the FERC-725P1 information collection requirements.¹¹

¹¹ If OMB renews FERC-725P1, the Commission subsequently may consider requesting that OMB combine that information collection activity with FERC-725G. Such action would be administrative only and would not indicate the discontinuation of the information collection requirements in FERC-725P1.

Abstract: The Commission collects information under FERC-725P1 in accordance with section 215 of the FPA and 18 CFR parts 39 and 40. Reliability Standard PRC-005-6 requires that transmission and generation protection systems affecting the reliability of the Bulk-Power System are maintained and tested.

Types of Respondents: Distribution providers, generator owners and transmission owners Entities.

Frequency of Response: On occasion.

Estimate of Annual Burden: The Commission estimates 1,861 responses annually, and per-response burdens of 2 hours and $141.34.¹² The total estimated burdens per year are 1,861 responses, 3,722 hours, and $263,033.74. These burdens are itemized in the following table:

¹² Using the November 20, 2024, NERC compliance registration information for only unique US entities that are Distribution Providers (298), generator owners (1,238) and transmission owners (325). Therefore, we estimate 1,861 (rounded) responses per year for FERC-725P1.

Mandatory Reliability Standards—Reliability Standard PRC-005-6 (Protection System, Automatic Reclosing, and Sudden Pressure Relaying Maintenance) (FERC-725P1) Annual Estimates of Respondents' Burdens
A. Number of respondents | B. Annual number of responses per respondent | C. Total number of responses | D. Average burden & cost per response ¹³ | E. Total annual burden hours & total annual cost | F. Cost per respondent ($)
|  | (Column A × Column B) |  | (Column C × Column D) | (Column E ÷ Column A)
325 (TO) | 1 | 325 | 2 hrs.; $141.34 | 650 hrs.; $45,935.50 | $141.34
1,238 (GO) | 1 | 1,238 | 2 hrs.; $141.34 | 2,476 hrs.; $174,978.92 | $141.34
298 (DP) | 1 | 298 | 2 hrs.; $141.34 | 596 hrs.; $42,119.32 | $141.34
Total |  | 1,861 |  | 3,722 hr., 263,033.74 |

725G1, 725G4 and 725P1 Merge Back Into 725G (1902-0252)

Abstract: On August 8, 2005, Congress enacted into law the Electricity Modernization Act of 2005, which is Title XII, Subtitle A, of the Energy Policy Act of 2005 (EPAct 2005).¹⁴ EPAct 2005 added a new section 215 to the FPA, which required a Commission-certified Electric Reliability Organization (ERO) to develop mandatory and enforceable Reliability Standards, which are subject to Commission review and approval. Once approved, the Reliability Standards may be enforced by the ERO subject to Commission oversight, or the Commission can independently enforce Reliability Standards.¹⁵

¹³ The estimated hourly cost (salary plus benefits) is a combination based on the Bureau of Labor Statistics (BLS), as of 2024, for 75% of the average of an Electrical Engineer (17-2071) $79.31/hr., 79.31 × .75 = 59.4825 ($59.48-rounded) ($59.48/hour) and 25% of an Information and Record Clerk (43-4199) $44.74/hr., $44.74 × .25% = 11.185 ($11.19 rounded) ($11.19/hour), for a total ($59.48 + $11.19 = $70.67/hour).

¹⁴ Energy Policy Act of 2005, Public Law 109-58, Title XII, Subtitle A, 119 Stat. 594, 941 (codified at 16 U.S.C. 824o).

¹⁵ 16 U.S.C. 824o(e)(3).

The information collected by the FERC-725G is required to implement the statutory provisions of section 215 of the Federal Power Act (FPA).² Section 215 of the FPA buttresses the Commission's efforts to strengthen the reliability of the interstate bulk power grid.

Mandatory Reliability Standards—Reliability Standard for FERC-725G (1902-0252) Annual Estimates of Respondents' Burdens
FERC-725G | C. Total annual responses | D. Total average burden & cost per response ¹⁶ | E. Total annual burden hours & total annual cost | F. Cost per respondent ($)
| (Column A × Column B) |  | (Column C × Column D) | (Column E ÷ Column A)
FERC-725-G1, Total PRC-004-6 | 930 | 16 hrs.; $1,130.72 | 14,880 hrs.; $1,051,569.60 | $1,130.72
FERC-725-G4, Total PRC-010-2 | 31 | 48 hrs.; $3,392.16 | 1,488 hrs.; $105,156.96 | 3,392.16
FERC-725-P1, Total PRC-005-6 | 1,861 | 2 hrs.; $141.34 | 3,722 hr., 263,033.74 | 141.34
Currently approved FERC-725G Totals | 11,367 |  | 762,718 |
FERC-725-G New Total | 14,189 |  | 782,808 |

The FERC-725G information collection currently contains the reporting and recordkeeping requirements for the following (12) Reliability Standards: PRC-002-4, PRC-004-6, PRC-005-6, PRC-006-5, PRC-010-2, PRC-012-2, PRC-019-2, PRC-023-6, PRC-024-3, PRC-025-2, PRC-026-2, and PRC-027-1.

¹⁶ The estimated hourly cost (salary plus benefits) is a combination based on the Bureau of Labor Statistics (BLS), as of 2024, for 75% of the average of an Electrical Engineer (17-2071) $79.31/hr., 79.31 × .75 = 59.4825 ($59.48-rounded) ($59.48/hour) and 25% of an Information and Record Clerk (43-4199) $44.74/hr., $44.74 × .25% = 11.185 ($11.19 rounded) ($11.19/hour), for a total ($59.48 + $11.19 = $70.67/hour).

PRC-002-4 Disturbance Monitoring and Reporting Requirements

The purpose is to have adequate data available to facilitate analysis of Bulk Electric System (BES) Disturb.

• PRC-005-6 Automatic Underfrequency Load Shedding

To document and implement programs for the maintenance of all Protection Systems, Automatic Reclosing, and Sudden Pressure Relaying affecting the reliability of the Bulk Electric System (BES) so that they are kept in working order

• PRC-006-5 Automatic Underfrequency Load Shedding

To establish design and documentation requirements for automatic Underfrequency Load Shedding (UFLS) programs to arrest declining frequency, assist recovery of frequency following underfrequency events and provide last resort system preservation measures.

• PRC-012-2 Remedial Action Schemes

To ensure that Remedial Action Schemes (RAS) do not introduce unintentional or unacceptable reliability risks to the Bulk Electric System (BES).

• PRC-019-2 Coordination of Generating Unit or Plant Capabilities, Voltage Regulating Controls, and Protection

The purpose is to verify coordination of generating unit Facility or synchronous condenser voltage regulating controls, limit functions, equipment capabilities and Protection System settings.

• PRC-023-4 Transmission Relay Load-Ability

The purpose to verify coordination of generating unit Facility or synchronous condenser voltage regulating controls, limit functions, equipment capabilities and Protection System settings.

• PRC-024-3 Generator Frequency and Voltage Protective Relay Settings

The purpose to set protection such that generating resource(s) remain connected during defined frequency and voltage excursions in support of the Bulk Electric System (BES).

• PRC-025-2 Generator Relay Load-Ability

The purpose is to set load-responsive protective relays associated with generation Facilities at a level to prevent unnecessary tripping of generators during a system disturbance for conditions that do not pose a risk of damage to the associated equipment.

• PRC-026-2 Relay Performance During Stable Power Swings

The purpose is to ensure that load-responsive protective relays are expected to not trip in response to stable power swings during non-Fault conditions.

• PRC-027-1 Coordination of Protection Systems for Performance During Faults

The purpose is to maintain the coordination of Protection Systems installed to detect and isolate Faults on Bulk Electric System (BES) Elements, such that those Protection Systems operate in the intended sequence during Faults.

Each of these Reliability Standards have three components that impose burden upon affected industry:

• Requirements (e.g., denoted in each Reliability Standard as R1, R2 . . .)

• Measures (e.g., denoted in each Reliability Standard as M1, M2 . . .)

• Evidence Retention

These three components can be reviewed for the Reliability Standards in North American Electric Reliability Commission (NERC) petitions in FERC's eLibrary system (http://www.ferc.gov/docs-filing/elibrary.asp) or on NERC's own website (www.nerc.com).

Type of Respondents: Generator owners, Planning coordinators, Distribution providers, and UFLS-only Distribution Providers.

Estimate of Annual Burden: ¹⁷ Our estimates are based on the NERC Compliance Registry Summary of Entities as of November 20, 2024. According to the NERC compliance registry, and functions as of, which indicates there are registered as GO, DP and TO entities. The individual burden estimates are based on the time needed to gather data, run studies, and analyze study results to design or update the underfrequency load shedding programs. These are consistent with estimates for similar tasks in other Commission approved standards.

¹⁷ Burden is defined as the total time, effort, or financial resources expended by persons to generate, maintain, retain, or disclose or provide information to or for a federal agency. See 5 CFR 1320 for additional information on the definition of information collection burden.

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: December 23, 2024.
Debbie-Anne A. Reese,
Secretary.

[FR Doc. 2024-31432 Filed 12-30-24; 8:45 am]

BILLING CODE 6717-01-P